DEPARTMENT OF TRANSPORTATION

Federal Aviation Administration

Furlough Implementation

AGENCY: Federal Aviation Administration (FAA), DOT.

ACTION: Notice.

SUMMARY: This action gives notice to the American public and aviation industry of the FAA's Aviation Safety Office's (AVS) furlough implementation. Under the Balanced Budget and Emergency Deficit Control Act of 1985, as amended by the Budget Control Act of 2011 and the American Taxpayer Relief Act of 2012, across-the-board budget cuts require the FAA to implement furloughs. AVS and its Services/Offices will implement the required 11 days of furlough beginning April 21, 2013 and continuing through September 30, 2013. AVS will continue to focus resources on those initiatives that would have the highest safety and economic value for the American public and aviation industry. The furlough days vary, with each office scheduling those days in accordance with mission requirements, workload considerations, and applicable collective bargaining agreements. For specific information, please see the FAA Web site at http://www.faa.gov/about/office_org/headquarters_offices/avs/operations_sequestration.

DATES: The furlough will take place beginning April 21 through September 30, 2013.

SUPPLEMENTARY INFORMATION: For specific information, please see the FAA Web site at http://www.faa.gov/about/office_org/headquarters_offices/avs/operations_sequestration.

Issued in Washington, DC, on April 22, 2013.
Lirio Liu,
Director, Office of Rulemaking.

[FR Doc. 2013-09775 Filed 4-22-13; 11:15 am]

BILLING CODE 4910-13-P